DEPARTMENT OF COMMERCE

International Trade Administration

[C-533-902]

Organic Soybean Meal From India: Preliminary Results and Partial Rescission of Countervailing Duty Administrative Review; 2023

AGENCY: Enforcement and Compliance, International Trade Administration, Department of Commerce.

SUMMARY: The U.S. Department of Commerce (Commerce) preliminarily determines that countervailable subsidies are being provided to certain producers/exporters of organic soybean meal from India. The period of review (POR) is January 1, 2023, through December 31, 2023. Interested parties are invited to comment on these preliminary results.

DATES: Applicable June 18, 2025.

FOR FURTHER INFORMATION CONTACT: Isaiah Kahn or Jose Rivera, AD/CVD Operations, Office OVII, Enforcement and Compliance, International Trade Administration, U.S. Department of Commerce, 1401 Constitution Avenue NW, Washington, DC 20230; telephone: (202) 482-8328 or (202) 482-0842, respectively.

SUPPLEMENTARY INFORMATION:

Background

On July 5, 2024, Commerce published in the Federal Register the notice of initiation of an administrative review of the Order.¹ On September 30, 2024, Commerce selected Bergwerff Organic India Pvt. Ltd. (Bergwerff) and Ecopure Specialties Ltd. (Ecopure) as the mandatory respondents.² Subsequently, on October 8, 2024, after Bergwerff timely withdrew its review request, Commerce selected Tejawat Organic Foods (Tejawat), as a mandatory respondent.³ On July 22, 2024, Commerce tolled certain deadlines in this administrative review by seven days.⁴ On December 9, 2024, Commerce tolled the deadline to issue the preliminary results in this administrative review by 90 days.⁵ Additionally, on May 2, 2025, we extended the deadline for these preliminary results by 36 days, in accordance with section 751(a)(3)(A) of the Tariff Act of 1930, as amended (the Act).⁶ The deadline for the preliminary results of this administrative review is now June 13, 2025.

¹ See Initiation of Antidumping and Countervailing Duty Administrative Reviews, 89 FR 55567 (July 5, 2024); see also Organic Soybean Meal from India: Countervailing Duty Order, 87 FR 29735 (May 16, 2022) (Order).

² See Memorandum, “Respondent Selection,” dated September 30, 2024.

³ See Memorandum, “Selection of New Mandatory Respondent,” dated October 8, 2024.

⁴ See Memorandum, “Tolling of Deadlines for Antidumping and Countervailing Duty Proceedings,” dated July 22, 2024.

⁵ See Memorandum, “Tolling of Deadlines for Antidumping and Countervailing Duty Proceedings,” dated December 9, 2024.

⁶ See Memorandum, “Extension of Deadline for Preliminary Results of Countervailing Duty Administrative Review,” dated May 2, 2025.

For a complete description of the events that followed the initiation of this review, see the Preliminary Decision Memorandum.⁷ A list of topics discussed in the Preliminary Decision Memorandum is included in Appendix I. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁷ See Memorandum, “Decision Memorandum for the Preliminary Results of the Administrative Review of the Countervailing Duty Order on Organic Soybean Meal from India; 2023,” dated concurrently with, and hereby adopted by, this notice (Preliminary Decision Memorandum).

Scope of the Order

The merchandise covered by this Order is organic soybean meal from India. For a complete description of the scope of the Order, see the Preliminary Decision Memorandum.

Partial Rescission of Administrative Review

Pursuant to 19 CFR 351.213(d)(1), Commerce will rescind an administrative review, in whole or in part, if the parties that requested a review withdraw the request within 90 days of the date of publication of the notice of initiation. A list of the 108 companies for which Commerce received timely-filed withdrawal requests is provided in Appendix II. Because the withdrawal requests were timely filed and no other parties requested a review of these companies, in accordance with 19 CFR 351.213(d)(1), Commerce is rescinding this review of the Order with respect to these 108 companies.

Rate for Non-Selected Companies Under Review

The Act and Commerce's regulations do not address the establishment of a rate to apply to companies not selected for individual examination when Commerce limits its examination in an administrative review pursuant to section 777A(e)(2) of the Act. However, Commerce normally determines the rates for non-selected companies in reviews in a manner that is consistent with section 705(c)(5) of the Act, which provides instructions for calculating the all-others rate in an investigation. Section 777A(e)(2) of the Act provides that “the individual countervailable subsidy rates determined under subparagraph (A) shall be used to determine the all-others rate under section 705(c)(5) {of the Act}.” Section 705(c)(5)(A) of the Act states that for companies not investigated, in general, we will determine an all-others rate by weight averaging the countervailable subsidy rates established for each of the companies individually investigated, excluding zero and de minimis rates or any rates based entirely on facts available. Accordingly, to determine the rate for companies not selected for individual examination, Commerce's practice is to weight average the net subsidy rates for the selected mandatory respondents, excluding rates that are zero, de minimis, or based entirely on facts available.⁸

⁸ See, e.g., Certain Pasta from Italy: Final Results of the 13th (2008) Countervailing Duty Administrative Review, 75 FR 37386, 37387 (June 29, 2010).

In this review, Commerce preliminarily assigned a rate based entirely on facts available to Ecopure. Therefore, the only rate that is not zero, de minimis, or based entirely on facts otherwise available is the rate calculated for Tejawat. Consequently, the rate calculated for Tejawat is also assigned as the rate for Vinod Kumar Ranjeet Singh Bafna., the only company under review that was not selected for individual examination.

Methodology

Commerce is conducting this administrative review in accordance with section 751(a)(l)(A) of the Act. For each of the subsidy programs found to be countervailable, we preliminarily determine that there is a subsidy, i.e., a government-provided financial contribution that gives rise to a benefit to the recipient, and that the subsidy is specific.⁹ For a full description of the methodology underlying our conclusions, including our reliance on adverse facts available pursuant to sections 776(a) and (b) of the Act, see the Preliminary Decision Memorandum.

⁹ See sections 771(5)(B) and (D) of the Act regarding financial contribution; section 771(5)(E) of the Act regarding benefit; and section 771(5A) of the Act regarding specificity.

Preliminary Results of Review

As a result of this review, we preliminarily determine the following net countervailable subsidy rates for the period, January 1, 2023, through December 31, 2023:

Company | Subsidy rate (percent ad valorem)
Tejawat Organic Foods | 3.66
Ecopure Specialties Ltd | 340.27
Vinod Kumar Ranjeet Singh Bafna | 3.66

Disclosure

Commerce intends to disclose its calculations and analysis performed in connection with the preliminary results to interested parties within five days of its public announcement, or if there is no public announcement, within five days of the date of publication of this notice, in accordance with 19 CFR 351.224(b).

Public Comment

Case briefs or other written comments may be submitted to the Assistant Secretary for Enforcement and Compliance. Pursuant to 19 CFR 351.309(c)(1)(ii), we have modified the deadline for interested parties to submit case briefs to Commerce to no later than 21 days after the date of the publication of this notice. Rebuttal briefs, limited to issues raised in the case briefs, may be filed not later than five days after the date for filing case briefs.¹⁰ Interested parties who submit case or rebuttal briefs in this proceeding must submit: (1) a table of contents listing each issue; and (2) a table of authorities.¹¹ All briefs must be filed electronically using ACCESS. An electronically filed document must be received successfully in its entirety in ACCESS by 5:00 p.m. Eastern Time on the established deadline.

¹⁰ See 19 CFR 351.309(d); see also Administrative Protective Order, Service, and Other Procedures in Antidumping and Countervailing Duty Proceedings, 88 FR 67069, 67077 (September 29, 2023) (APO and Service Procedures).

¹¹ See 19 CFR 351.309(c)(2) and (d)(2).

As provided under 19 CFR 351.309(c)(2) and (d)(2), in prior proceedings we have encouraged interested parties to provide an executive summary of their brief that should be limited to five pages total, including footnotes. In this review, we instead request that interested parties provide at the beginning of their briefs a public, executive summary for each issue raised in their briefs.¹² Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹³

¹² We use the term “issue” here to describe an argument that Commerce would normally address in a comment of the Issues and Decision Memorandum.

¹³ See APO and Service Procedures.

Pursuant to 19 CFR 351.310(c), interested parties who wish to request a hearing must submit a written request to the Assistant Secretary for Enforcement and Compliance, filed electronically via ACCESS. Requests should contain: (1) the party's name, address, and telephone number; (2) the number of participants and whether any participant is a foreign national; (3) and a list of the issues to be discussed. Issues raised in the hearing by a party will be limited to those raised in the party's case and rebuttal briefs. An electronically filed hearing request must be received successfully in its entirety by Commerce's electronic records system, ACCESS, by 5 p.m. Eastern Time within 30 days after the date of publication of this notice in the Federal Register. If a request for a hearing is made, Commerce will inform parties of the scheduled date for the hearing.¹⁴

¹⁴ See 19 CFR 351.310(d).

Assessment Rates

Consistent with section 751(a)(1) of the Act and 19 CFR 351.212(b)(2), upon issuance of the final results, Commerce shall determine, and CBP shall assess, countervailing duties on all appropriate entries covered by this review.

We intend to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

For the companies for which this review is rescinded with these preliminary results, we will instruct CBP to assess countervailing duties on all appropriate entries at a rate equal to the cash deposit of estimated countervailing duties required at the time of entry, or withdrawal from warehouse, for consumption, during the period January 1, 2023, through December 31, 2023, in accordance with 19 CFR 351.212(c)(l)(i). Commerce intends to issue rescission instructions to CBP no earlier than 35 days after the date of publication of this rescission in the Federal Register.

Cash Deposit Requirements

Pursuant to section 751(a)(2)(C) of the Act, Commerce intends, upon publication of the final results, to instruct U.S. Customs and Border Protection (CBP) to collect cash deposits of estimated countervailing duties in the amounts indicated above with regard to shipments of subject merchandise entered, or withdrawn from warehouse, for consumption on or after the date of publication of the final results of review. For all non-reviewed firms, CBP will continue to collect cash deposits of estimated countervailing duties at the all-others rate or the most recent company-specific rate applicable to the company, as appropriate. These cash deposit requirements, when imposed, shall remain in effect until further notice.

Final Results of Review

Unless the deadline is extended, pursuant to section 751(a)(3)(A) of the Act and 19 CFR 351.213(h)(2), Commerce intends to issue the final results of this administrative review, including the results of its analysis of the issues raised by parties in their briefs, within 120 days after the date of publication of these preliminary results in the Federal Register.

Notification to Interested Parties

We are issuing and publishing these preliminary results in accordance with sections 751(a)(1) and 777(i)(1) of the Act, and 19 CFR 351.213(d) and 351.221(b)(4).

Dated: June 13, 2025.
Steven Presing,
Acting Deputy Assistant Secretary for Policy and Negotiations.

Appendix I

List of Topics Discussed in the Preliminary Decision Memorandum

I. Summary

II. Background

III. Period of Review

IV. Scope of the Order

V. Diversification of India's Economy

VI. Partial Rescission of Administrative Review

VII. Rate for Non-Selected Companies Under Review

VIII. Use of Facts Otherwise Available and Application of Adverse Inferences

IX. Subsidies Valuation

X. Discount Rates

XI. Analysis of Programs

XII. Recommendation

Appendix II

List of Companies for Which Commerce Is Rescinding Its Review

1. Abhay Oil Industries.

2. Agrawal Oil & Biocheam.

3. Alfa Engineering & Enterprise.

4. Allcargo Logistics Ltd.

5. All Cargo Logistics Ltd.

6. Al Quresh Exp.

7. Al Sameer Exp. Pvt., Ltd.

8. Artevet India LLP.

9. Asa Agrotech Pvt., Ltd.

10. Avt Natural Products Ltd.

11. Bawa Fishmeal and Oil Co.

12. Bergwerff Organic (India) Pvt., Ltd.; Suminter India Organics Pvt., Ltd.

13. Bio Treasure Overseas.

14. BNS Agro Industries Sarl.

15. Chandrashekhar Exp. Pvt., Ltd.

16. Chola Imp. & Exp.

17. Decent Shipping Pvt., Ltd.

18. Delight Likelike Products Private Ltd.

19. Delight Sustainable Products LLP.

20. Eco Gold Nutri and Organics LLP.

21. Euroasia S. Ingredients Private Ltd.

22. Euroasias Organics Private Ltd.

23. Fair Exp. (India) Pvt., Ltd.

24. Faze Three Ltd. Wec India.

25. Grasim Industries Ltd.

26. Himatsingaka Seide Ltd.

27. Hnco Organics Pvt., Ltd.

28. Indication Instruments Ltd.

29. Jay Agro Product.

30. Jay Shree Agro Products.

31. J. Lal Foods International.

32. J Lal Foods Private Ltd.

33. JSM Foods.

34. Kaj Traders.

35. Kalash International.

36. Kan Biosys Pvt., Ltd.

37. Kanishka Organics LLP.

38. Kemin Industries South Asia Pvt., Ltd.

39. Keshav Proteins and Organic LLP.

40. Khanal Foods Pvt., Ltd.

41. Kiesrriya Agro Exim Pvt., Ltd.

42. Krishna Exp. Private Ltd.

43. K Uttamlal Exp. Pvt., Ltd.

44. LG Balakrishnan Bros.

45. Lupin Limited.

46. Mani Loni.

47. Medikonda Nutrients.

48. Mehtra Pressing.

49. Mj Herbal Extracts Pvt., Ltd.

50. Mohit International Pvt., Ltd.

51. Natraj Home Furnishings Pvt., Ltd.

52. Natural Remedies Pvt., Ltd.

53. Nature Bio Foods Ltd.

54. Navjyot International.

55. Ox Emp. Co.

56. Pachranga Foods.

57. Paprika Oleos (India) Ltd.

58. Patel Retail Private Ltd.

59. Prasad Cotton Industries Pvt., Ltd.

60. Promois International Ltd.

61. Pt C Industries Ltd. Mehsana Plant.

62. Quality Spices and Food Exp. Pvt., Ltd.

63. Radha Krishna Oil Product.

64. Rainbow Exim Trade LLP.

65. Raj Foods International.

66. Raj Natural Food Pvt., Ltd.

67. Rajat Agro Commodities Pvt., Ltd.

68. Ramdev Food Products Pvt., Ltd.

69. Rayban Organics Pvt., Ltd.

70. Reach 2 Farm LLP.

71. Reindeer Organics LLP.

72. R.S. Lal International.

73. Rudra Enterprises.

74. Rupen Marketing Pvt., Ltd.

75. Rustam Foods Private Ltd.

76. Safewater Lines (India) Pvt., Ltd.

77. Sai Smaran Foods Ltd.

78. Salvi Chemical Industries Ltd.

79. Samruddhi Organic Farm (India) Pvt., Ltd.

80. Sar Transport Systems Pvt., Ltd.

81. Satguru Agro Resources Private Ltd.

82. Satguru Organics Pvt., Ltd.

83. Seasons International Pvt., Ltd.

84. Sethi International.

85. Shah Imp. & Exp.

86. Shanti Overseas (India) Limited.

87. Shanti Worldwide.

88. Shemach Impex.

89. Shivam Enterprises.

90. Shree Imp. & Exp.

91. Shree Swaminarayan Siddhant Uttejak.

92. Shree Uday Oil and Foods Industries.

93. Shreeram Fibres India Pvt., Ltd.

94. Shri Narayani Mfg. Co.

95. Shri Sumati Industries Pvt., Ltd.

96. S S India Foods Private Ltd.

97. Terra Bio Naturals Private Ltd.

98. Thakar Exp.

99. Thirumalai Chemicals Ltd.

100. Unique Fragrances.

101. Unique Organics Ltd.

102. Vimala Food Products.

103. Vippy Industries.

104. VS Trans Lojistik LLP.

105. We Organic Nature Pvt. Ltd.

106. Welspun Global Brands Ltd.

107. Wwi Sourcing Pvt., Ltd.

108. Yashvi Food Private, Ltd

[FR Doc. 2025-11233 Filed 6-17-25; 8:45 am]

BILLING CODE 3510-DS-P